SECURITIES AND EXCHANGE COMMISSION

[Release No. 34-47733; File No. 4-208]

Intermarket Trading System; Order Granting Approval of the Twentieth Amendment to the ITS Plan Relating to the Recognition of the Use by the Chicago Board Options Exchange, Inc. of the Regional Computer Interface and the Description of Commitment Acceptance Applicable to Specialists of the Boston Stock Exchange, Inc.

April 24, 2003.

On March 14, 2003, the Intermarket Trading System Operating Committee (“ITSOC”) submitted to the Securities and Exchange Commission (“Commission”), pursuant to section 11A of the Securities Exchange Act of 1934 (“Act”),¹ and Rule 11A3a3-2 thereunder,² a proposed amendment (“Twentieth Amendment”) to the restated ITS Plan.³ The proposed amendment recognized the use by the Chicago Board Options Exchange, Inc. (“CBOE”) of the Regional Computer Interface (“RCI”); and revised the description of commitment acceptance applicable to specialists of the Boston Stock Exchange, Inc. (“BSE”). Notice of the proposed amendment appeared in the Federal Register on April 3, 2003.⁴ The Commission received no comments on the proposed amendment. This order approves the proposed amendment.

¹ 15 U.S.C. 78k-1.

² 17 CFR 240.11Aa3-2.

³ The ITS is a National Market System plan, which was designed to facilitate intermarket trading in exchange-listed equity securities based on current quotation information emanating from the linked markets. See Securities Exchange Act Release No. 19456 (January 27, 1983), 48 FR 4938 (February 3, 1983).

The ITS Participants include the American Stock Exchange LLC (“Amex”), BSE, CBOE, the Chicago Stock Exchange, Inc. (“CHX”), the Cincinnati Stock Exchange, Inc. (“CSE”), the National Association of Securities Dealers, Inc. (“NASD”), the New York Stock Exchange, Inc. (“NYSE”), the Pacific Exchange, Inc. (“PCX”), and the Philadelphia Stock Exchange, Inc. (“Phlx”) (collectively, “Participants”).

⁴ See Securities Exchange Act Release No. 47578 (March 26, 2003), 67 FR 16319.

The Commission finds that the proposed amendment is consistent with the Act and the rules and regulations thereunder applicable to the ITS and, in particular, Sections 11A(a)(1)(C)(ii) and (D) of the Act,⁵ and Rule 11A3-2(c)(2) thereunder,⁶ which require among other things, that a plan amendment must be necessary or appropriate in the public interest, for the protection of investors and the maintenance of fair and orderly markets, and shall remove impediments to, and perfect the mechanisms of, a national market system. Specifically, the Commission believes that the plan amendment should enable the CBOE to use the communications network that links all the Participant markets. Further, the Commission believes that the proposed amendment clarifies in the ITS Plan those instances where an ITS transaction will be represented by one or more BSE Registered specialists.

⁵ 15 U.S.C. 78k-1(a)(1)(C)(ii) and (D).

⁶ 17 CFR 240.11A3-2(c)(2).

It is therefore ordered, pursuant to section 11A(a)(3)(B) of the Act,⁷ that the proposed Twentieth Amendment be, and hereby is, approved.

⁷ 15 U.S.C. 78k-1(a)(3)(B).

For the Commission, by the Division of Market Regulation, pursuant to delegated authority.⁸
⁸ 17 CFR 200.30-3(a)(29).
Margaret H. McFarland,
Deputy Secretary.

[FR Doc. 03-11013 Filed 5-2-03; 8:45 am]

BILLING CODE 8010-01-P